DEPARTMENT OF DEFENSE

Office of the Secretary

Renewal of Department of Defense Federal Advisory Committees

AGENCY: DoD.

ACTION: Renewal of Federal Advisory Committee.

SUMMARY: The Department of Defense (DoD) is publishing this notice to announce that it is renewing the charter for the Vietnam War Commemoration Advisory Committee (“the Committee”).

FOR FURTHER INFORMATION CONTACT: Jim Freeman, Advisory Committee Management Officer for the Department of Defense, 703-692-5952.

SUPPLEMENTARY INFORMATION: This committee's charter is being renewed in accordance with the Federal Advisory Committee Act of 1972 (5 U.S.C. Appendix, as amended), the Government in the Sunshine Act of 1976 (5 U.S.C. 552b) (“the Sunshine Act”), and 41 CFR 102-3.50(a).

The Committee is a discretionary Federal advisory committee that shall provide independent advice and recommendations to the Secretary of Defense and the Deputy Secretary of Defense, through the Deputy Chief Management Officer (DCMO) on how to best achieve the following objectives in commemorating the 50th Anniversary of the Vietnam War, as referenced in section 598(c) of Pub. L. 110-181:

a. Thank and honor veterans of the Vietnam War, including personnel who were held as prisoners of war or listed as missing in action, for their service and sacrifice on behalf of the United States and to thank and honor the families of these veterans;

b. Highlight the service of the Armed Forces during the Vietnam War and the contributions of Federal agencies and governmental and non-governmental organizations that served with, or in support of, the Armed Forces;

c. Pay tribute to the contributions made on the home front by the people of the United States during the Vietnam War;

d. Highlight the advances in technology, science, and medicine related to military research conducted during the Vietnam War; and

e. Recognize the contributions and sacrifices made by the allies of the United States during the Vietnam War.

The Committee shall be composed of no more than 20 members, who are appointed by the Secretary of Defense or the Deputy Secretary of Defense. These members shall represent Vietnam Veterans, their families, and the American public. Candidates for the Committee shall be selected from the Military Services (both retired veterans and active members who served during the Vietnam era), the Department of Defense, the Department of State, the Department of Veterans Affairs, and the Intelligence Community. In addition, candidates from nongovernmental organizations that support veterans or contribute to the public's understanding of the Vietnam War shall be selected.

The Committee Chair shall be appointed by the Secretary of Defense or the Deputy Secretary of Defense. Any leadership appointment shall not exceed the individual member's approved term of service.

Committee members who are not full-time or permanent part-time Federal officers or employees shall be appointed as experts or consultants, pursuant to 5 U.S.C. 3109, to serve as special government employee (SGE) members. Committee members who are full-time or permanent part-time Federal employees shall be appointed, pursuant to 41 CFR 102-3.130(a), to serve as regular government employee (RGE) members.

Each Committee member is appointed to provide advice to the government on the basis of his or her best judgment without representing any particular point of view and in a manner that is free from conflict of interest. With the exception of reimbursement for official Committee-related travel and per diem, Committee members shall serve without compensation.

The Secretary of Defense, or the Deputy Secretary of Defense, may approve the appointment of Committee members for one-to-four year terms of service with annual renewals. However, no member, unless authorized by the Secretary of Defense or the Deputy Secretary of Defense, may serve more than two consecutive terms of service. This same term of service limitation also applies to any DoD authorized subcommittees.

The Secretary of Defense, through the DCMO and pursuant to DoD policies and procedures, may appoint, as deemed necessary, non-voting consultants as subject matter experts (SMEs) to provide special expertise to the Committee. These SMEs, if not full-time or part-time government employees, shall be appointed pursuant to 5 U.S.C. 3109 as SGEs, shall be appointed on an intermittent basis to work specific Committee-related efforts, shall have no voting rights whatsoever on the Committee or any of its subcommittees, shall not participate in the Committee's deliberations, and shall not count toward the Committee's total membership. All experts or consultants shall serve terms of appointments as determined by the DCMO, and those appointments may be renewed, as appropriate.

The DoD, when necessary and consistent with the Committee's mission and DoD policies and procedures, may establish subcommittees, task forces, or working groups to support the Committee. Establishment of subcommittees will be based upon a written determination, to include terms of reference, by the Secretary of Defense, the Deputy Secretary of Defense, or the DCMO, as the DoD sponsor.

Such subcommittees shall not work independently of the Committee and shall report all of their recommendations and advice solely to the Committee for full and open deliberation and discussion. Subcommittees, task forces, or working groups have no authority to make decisions and recommendations, verbally or in writing, on behalf of the Committee. No subcommittee or its members can update or report, verbally or in writing, on behalf of the Committee, directly to the DoD or to any Federal officer or employee.

The Secretary of Defense or the Deputy Secretary of Defense will appoint subcommittee members to a term of service of one-to-four years, with annual renewals, even if the member in question is already a member of the Committee.

Subcommittee members, if not full-time or part-time Federal officers or employees, shall be appointed as experts and consultants, pursuant to 5 U.S.C. 3109, to serve as SGE members.

Subcommittee members who are full-time or permanent part-time Federal officers or employees will serve as RGE members, pursuant to 41 CFR 102-3.130(a).

Each subcommittee member is appointed to provide advice to the government on the basis of his or her best judgment without representing any particular point of view and in a manner that is free from conflict of interest. With the exception of reimbursement for official Committee-related travel and per diem, subcommittee members shall serve without compensation.

All subcommittees operate under the provisions of FACA, the Sunshine Act, governing Federal statutes and regulations, and established DoD policies and procedures.

The estimated number of Committee meetings is two per year.

The Committee's Designated Federal Officer (DFO), pursuant to DoD policy, shall be a full-time or permanent part-time DoD employee appointed in accordance with governing DoD policies and procedures.

The Committee's DFO is required to be in attendance at all meetings of the Committee and any of its subcommittees for the entire duration of each and every meeting. However, in the absence of the Committee's DFO, a properly approved Alternate DFO, duly appointed to the Committee according to established DoD policies and procedures, shall attend the entire duration of the Committee or any subcommittee meeting.

The DFO, or the Alternate DFO, shall call all meetings of the Committee and its subcommittees; prepare and approve all meeting agendas; and adjourn any meeting when the DFO, or the Alternate DFO, determines adjournment to be in the public interest or required by governing regulations or DoD policies and procedures.

Pursuant to 41 CFR 102-3.105(j) and 102-3.140, the public or interested organizations may submit written statements to Vietnam War Commemoration Advisory Committee membership about the Committee's mission and functions. Written statements may be submitted at any time or in response to the stated agenda of planned meeting of the Vietnam War Commemoration Advisory Committee.

All written statements shall be submitted to the DFO for the Vietnam War Commemoration Advisory Committee, and this individual will ensure that the written statements are provided to the membership for their consideration. Contact information for the Vietnam War Commemoration Advisory Committee DFO can be obtained from the GSA's FACA Database— http://www.facadatabase.gov/.

The DFO, pursuant to 41 CFR 102-3.150, will announce planned meetings of the Vietnam War Commemoration Advisory Committee. The DFO, at that time, may provide additional guidance on the submission of written statements that are in response to the stated agenda for the planned meeting in question.

Dated: December 16, 2014.
Aaron Siegel,
Alternate OSD Federal Register Liaison Officer, Department of Defense.

[FR Doc. 2014-29790 Filed 12-19-14; 8:45 am]

BILLING CODE 5001-06-P